ENVIRONMENTAL PROTECTION AGENCY

[EPA-HQ-OW-2015-0641; FRL-10930-01-OMS]

Agency Information Collection Activities; Submission to the Office of Management and Budget for Review and Approval; Comment Request; BEACH Act Grant Program (Renewal)

AGENCY: Environmental Protection Agency (EPA).

ACTION: Notice.

SUMMARY: The Environmental Protection Agency (EPA) has submitted an information collection request (ICR), Beaches Environmental Assessment and Coastal Health (BEACH) Act Grant Program (EPA ICR Number 2048.07, OMB Control Number 2040-0244) to the Office of Management and Budget (OMB) for review and approval in accordance with the Paperwork Reduction Act. This is a proposed extension of the ICR, which is currently approved through April 30, 2023. Public comments were previously requested via the Federal Register on July 11, 2022 during a 60-day comment period. This notice allows for an additional 30 days for public comments.

DATES: Comments may be submitted on or before May 30, 2023.

ADDRESSES: Submit your comments, referencing Docket ID Number EPA-HQ-OW-2015-0641, to EPA online using www.regulations.gov (our preferred method), by email to OW-Docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Lisa Larimer, Office of Water, Office of Science and Technology, Standards and Health Protection Division, (4305T), Environmental Protection Agency, 1200 Pennsylvania Ave. NW, Washington, DC 20460; telephone number: (202) 566-1017; fax number: (202) 566-0409; email address: larimer.lisa@epa.gov.

SUPPLEMENTARY INFORMATION: This is a proposed extension of the ICR, which is currently approved through April 30, 2023. An agency may not conduct or sponsor and a person is not required to respond to a collection of information unless it displays a currently valid OMB control number.

Public comments were previously requested via the Federal Register on July 11, 2022 during a 60-day comment period (87 FR 41124). This notice allows for an additional 30 days for public comments. Supporting documents, which explain in detail the information that the EPA will be collecting, are available in the public docket for this ICR. The docket can be viewed online at www.regulations.gov or in person at the EPA Docket Center, WJC West, Room 3334, 1301 Constitution Ave., NW, Washington, DC. The telephone number for the Docket Center is 202-566-1744. For additional information about EPA's public docket, visit http://www.epa.gov/dockets.

Abstract: The Beaches Environmental Assessment and Coastal Health (BEACH) Act amends the Clean Water Act (CWA) in part and authorizes the U.S. Environmental Protection Agency (EPA) to award BEACH Act Grants to coastal and Great Lakes states, tribes, and territories (collectively referred to as jurisdictions) to develop and implement beach monitoring and notification programs. The grants assist those jurisdictions to develop and implement a consistent approach to monitor coastal recreational water quality; assess, manage, and communicate health risks from waterborne microbial contamination; notify the public of pollution occurrences; and post beach advisories and closures to prevent public exposure to microbial pathogens.

Per CWA section 406 (33 U.S.C. 1346), to qualify for a BEACH Act grant a jurisdiction must submit information to EPA documenting that its beach monitoring and notification program is consistent with performance criteria outlined in the National Beach Guidance and Required Performance Criteria for Grants, 2014 Edition. In addition, recipients of BEACH Act grants must submit water quality monitoring data and information on public notification actions to EPA. All beach program information will be collected by EPA's Office of Science and Technology, stored in the Beach Advisory and Closing On-line Notification (BEACON) system, and accessible via EPA's Beaches website for use by the public; state, tribal, territorial, and local environmental and public health agencies; and EPA.

Form Numbers: None.

Respondents/affected entities: Potential respondents to this ICR are recipients of BEACH Act grants, including 29 coastal and Great Lakes states, 4 tribes, 5 U.S. territories, and Erie County, Pennsylvania.

Respondent's obligation to respond: Required to obtain or retain a benefit (Section 406 of the Clean Water Act, 33 U.S.C. 1346).

Estimated number of respondents: 40 (total).

Frequency of response: Annual; however, the Agency encourages more frequent reporting to provide more up-to-date information to the public.

Total estimated burden: 322,954 hours (per year). Burden is defined at 5 CFR 1320.03(b)

Total estimated cost: $22,976,864 (per year), includes $9,955,800 annualized capital or operation & maintenance costs.

Changes in the estimates: There is an increase of 230,953 hours in the total estimated respondent burden compared with the ICR currently approved by OMB. This increase adjusts estimates in response to feedback to better account for labor costs and to structure the ICR to better align with the burden associated with the present program. Specifically, the increase is due to three main reasons: (1) the existing ICR does not fully capture the respondent labor associated with collecting water quality samples, (2) the restructuring of actions into developmental and annual grant activities and subsequent recalculation of the associated burden, and (3) the anticipated addition of one tribal respondent. The total respondent cost increased by $7.459M due to the changes described above, an increase in the cost to analyze water samples, and slight increases in the salary rates. However, this increase is offset by a $1.5M decrease in respondent O&M cost resulting from using actual respondent sampling frequency data rather than previous estimates that overcounted sampling. Agency burden and cost increased by 117 hours because the existing ICR did not capture some of the labor associated with the administration of beach grants or the Agency O&M cost for contractor assistance to jurisdictions with data submission and maintaining the statutorily required database.

Courtney Kerwin,
Director, Regulatory Support Division.

[FR Doc. 2023-08840 Filed 4-26-23; 8:45 am]

BILLING CODE 6560-50-P